DEPARTMENT OF HOUSING AND URBAN DEVELOPMENT

[Docket No. FR-4994-N-02; HUD-2005-0020]

HUD's Draft Section 504 Self-Evaluation Report on HUD-Conducted Programs and Activities; Reopening of Comment Period

AGENCY: Office of the Assistant Secretary for Fair Housing and Equal Opportunity, HUD.

ACTION: Notice; Reopening of Comment Period.

SUMMARY: On June 22, 2005, HUD published a notice in the Federal Register soliciting comments on its draft section 504 self-evaluation report of HUD-conducted programs, activities, and regional office facilities. The draft report was prepared consistent with HUD's responsibilities under section 504 of the Rehabilitation Act of 1973, as amended, and under HUD's implementing regulations. The public comment period closed on July 22, 2005. HUD has received numerous requests to re-open the period for public comment. This notice announces the reopening of the public comment period on the section 504 draft self-evaluation report.

DATES: Comment Due Date: November 7, 2005

ADDRESSES: Interested persons are invited to submit comments regarding this notice to the Regulations Division, Office of General Counsel, Department of Housing and Urban Development, 451 Seventh Street, SW., Room 10276, Washington, DC 20410-0500. Electronic comments may be submitted through either:

• The Federal eRulemaking Portal: at http://www.regulations.gov; or

• The HUD electronic Web site at: http://www.epa.gov/feddocket. Follow the link entitled “View Open HUD Dockets.” Commenters should follow the instructions provided on that site to submit comments electronically. Facsimile (FAX) comments are not acceptable. In all cases, communications must refer to the docket number and title.

All comments and communications submitted will be available, without charge, for public inspection and copying between 8 a.m. and 5 p.m. weekdays at the above address. Due to security measures at the HUD Headquarters building, please schedule an appointment to review the public comments by calling the Regulations Division at (202) 708-3055 (this is not a toll-free number). Copies of the public comments are also available for inspection and downloading at http://www.epa.gov/feddocket.

Oral Comments: Persons desiring to provide oral comments may call (202) 708-9410 and leave comments on voice mail. For individuals who are hearing or speech impaired and who use a TTY, oral comments may be submitted by calling (202) 401-1247. Please note that these numbers are not toll free. Summaries of the oral comments and the TTY transcripts will be available, without charge, for inspection and copying between 8 a.m. and 5 p.m. weekdays at the above address. Due to security measures at the HUD Headquarters building, please schedule an appointment to review the public comments by calling the Regulations Division at (202) 708-3055 (this is not a toll-free number). The telephone numbers for oral comments will be in operation throughout the comment period and will be disconnected at the close of the public comment period.

FOR FURTHER INFORMATION CONTACT: Milton Turner, Director, Compliance and Disability Rights Division, Office of Fair Housing and Equal Opportunity, Department of Housing and Urban Development, 451 Seventh Street, SW., Room 5240, Washington, DC 20410-2000; telephone (202) 708-2333, extension 7057 (this is not a toll free number). Hearing or speech-impaired individuals may access this number via TTY by calling the toll-free Federal Information Relay Service at 1-800-877-8339.

SUPPLEMENTARY INFORMATION: HUD recently conducted a self-evaluation of its regional office facilities and its policies and practices consistent with HUD's responsibilities under section 504 of the Rehabilitation Act of 1973 (29 U.S.C. 794) (Section 504). The objective of the self-evaluation was two-fold: (1) To determine whether current HUD policies and practices (including regulations, handbooks, notices, and other written guidance) discriminate, or have the effect of discriminating, on the basis of disability; and (2) to determine if HUD facilities are accessible to persons with disabilities. The types of disability discrimination the self-evaluation sought to disclose included those situations where:

1. Otherwise qualified persons are excluded from participation in, or denied benefits of, HUD programs and activities on the basis of disability;

2. HUD policies that, although neutral on their face, in operation limit the ability of persons with disabilities to benefit from program opportunities (e.g., requiring a person to make a written request for information on HUD's assisted housing programs); and

3. Separate or different benefits or services are provided to persons on the basis of disability where such action is not required to provide a benefit or service as effective as those provided to others (e.g., holding a separate training program for persons with hearing impairments is discriminatory when the training can be effectively held in an integrated setting with the provision of interpreters).

HUD prepared a draft report presenting the results of its section 504 self-evaluation. The draft report, located at http://www.hud.gov/offices/fheo/disabilities/index.cfm, discusses the methodology HUD used to conduct the self-evaluation and contains recommendations for addressing identified barriers.

On June 22, 2005 (70 FR 36318), HUD published a Federal Register notice seeking public comment on this draft report. Following publication of the notice, many interested parties, who, citing the complexity of the report and the difficulty of evaluating and commenting on the report within 30 days, sought an extension of the 30-day comment period. HUD understands the complexity of the report and the difficulty of evaluating the report; therefore, in order to give all interested persons sufficient time to submit comments, HUD is reopening the public comment period for comments on HUD's draft self-evaluation report. Additionally, HUD is now accepting both oral and written comments on the section 504 draft report. HUD will issue a final self-evaluation report after consideration of all public comments received on the section 504 draft report.

A number of interested parties commented that the draft report on the HUD Web page did not contain Appendix 3, which were the blank worksheets that were completed internally by HUD Program Offices and Divisions. While the Department referenced Appendix 3 in the text of the draft report, it did not originally release the checklists because they were just one of several processes that were used to develop the final draft report. Since there is interest in the release of the blank worksheets contained in Appendix 3, they have been included in the draft Section 504 report posted on the HUD Web page.

In addition to those comments, both oral and written, that HUD will receive between today's date and November 7, 2005, all comments that were postmarked on or before July 22, 2005 (the original due date for public comments) will be considered in the development of the final HUD section 504 self-evaluation report on HUD-conducted programs and activities.

Dated: September 29, 2005.
Floyd O. May,
General Deputy Assistant Secretary for Fair Housing and Equal Opportunity.

[FR Doc. 05-20151 Filed 10-6-05; 8:45 am]

BILLING CODE 4210-28-P